DEPARTMENT OF AGRICULTURE

Submission for OMB Review; Comment Request

October 1, 2009.

The Department of Agriculture has submitted the following information collection requirement(s) to OMB for review and clearance under the Paperwork Reduction Act of 1995, Public Law 104-13. Comments regarding whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of the Assistant Secretary for Civil Rights

Title: USDA Race, Ethnicity and Gender Data Collection.

OMB Control Number: 0503-NEW.

Summary of Collection: Section 14006 and 14007 of the Food, Conservation, and Energy Act of 2008, 7 U.S.C. 8701 (referred to as the 2008 Far Bill) establishes a requirement for the Department of Agriculture (USDA) to annually compile application and participation rate data regarding socially disadvantaged farmers or ranchers by computing for each program of the USDA that serves agriculture producers and landowners (a) raw numbers of applicants and participants by race, ethnicity, and gender, subject to appropriate privacy protection, as determined by the Secretary; and (b) the application and participation rate, by race, ethnicity and gender as a percentage of the total participation rate of all agricultural producers and landowners for each county and State in the United States.

Need and Use of the Information: Data will be collected through a questionnaire to determine the race, ethnicity and gender of farmers and ranchers who apply for and who participate in USDA programs and services. The data is also necessary to provide USDA and its agencies with sound data on the demographics of its constituents. The data will enable USDA to (a) develop a baseline on its applicants and participants, (b) assist in planning for and implementing appropriate responses to the needs of its constituents, and (c) in the conduct of oversight and evaluation of civil rights compliance. The information will be used by the Office of Advocacy and Outreach and the agencies' outreach offices to determine if socially disadvantaged farmers and ranchers are being equitably served by USDA programs. Failure to collect this information will have a negative impact on USDA's outreach activities and could result in an inability of the agencies to equitably deliver programs and services to applicant and producers.

Description of Respondents: Individuals or households.

Number of Respondents: 14,000,000.

Frequency of Responses: Reporting: Other (once).

Total Burden Hours: 462,000.

Ruth Brown,
Departmental Information Collection Clearance Officer.

[FR Doc. E9-24052 Filed 10-5-09; 8:45 am]

BILLING CODE 3410-11-P